DEPARTMENT OF STATE

[Public Notice 5461]

30-Day Notice of Proposed Information Collection: DS-3013, Application Under the Hague Convention on the Civil Aspects of International Child Abduction, OMB Number 1405-0076

ACTION: Notice of request for public comment and submission to OMB of proposed collection of information.

SUMMARY: The Department of State has submitted the following information collection request to the Office of Management and Budget (OMB) for approval in accordance with the Paperwork Reduction Act of 1995.

• Title of Information Collection: Application Under the Hague Convention on the Civil Aspects of International Child Abduction.

• OMB Control No: 1405-0076.

• Type of Request: Revision of a Currently Approved Collection.

• Originating Office: Bureau of Consular Affairs. CA/OCS/CI.

• Form Number: DS-3013.

• Respondents: Individuals.

• Estimated Number of Respondents: 500 per year.

• Estimated Number of Responses: 500 per year.

• Average Hours Per Response: 1 hour.

• Total Estimated Burden: 500 hours.

• Frequency: On occasion.

• Obligation to Respond: Required to Obtain or Retain a Benefit.

DATES: Submit comments to the Office of Management and Budget (OMB) for up to 30 days from July 5, 2006.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Mary Sue Conaway, CA/OCS/CI, U.S. Department of State, Washington, DC 20520-4818, who may be reached on 202-736-9131 or via e-mail at ConawayMS@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Application Under the Hague Convention on the Civil Aspects of International Child Abduction (DS-3013) is used by parents or legal guardians who are asking the State Department's assistance in seeking the return of, or access to, a child/or children alleged to be wrongfully removed from or retained outside of the child's habitual residence and currently located in another country that is also party to the Hague Convention on the Civil Aspects of International Child Abduction (Contracting State). The application requests information regarding the identities of the applicant, the child or children, and the person alleged to have wrongfully removed or retained the child or children. In addition, the application requires that the applicant provide the circumstances of the alleged wrongful removal or retention and the legal justification for the request for return or access. The State Department, as the U.S. Central Authority, uses this information to establish, if possible, the applicants' claims under the Convention; to advise applicants about available remedies under the Convention; and to provide the information necessary to the foreign Central Authority in its efforts to locate the child or children, and to facilitate return of or access to the child or children pursuant to the Convention.

Methodology

The CA/OCS/CI contact collects the necessary information via mail, fax, or electronic submission.

Dated: June 20, 2006.
Catherine Barry,
Deputy Assistant Secretary, Consular Affairs, Overseas Citizens Services, Department of State.

[FR Doc. E6-10442 Filed 7-3-06; 8:45 am]

BILLING CODE 4710-06-P